DEPARTMENT OF ENERGY

Federal Energy Regulatory Commission

Combined Notice of Filings #1

Take notice that the Commission received the following complaints and compliance filings in EL Dockets:

Docket Numbers: EL24-101-000.

Applicants: Citizens Pacific Transmission LLC.

Description: Amendment to Citizens Pacific Transmission LLC 04/11/2024 Petition for Declaratory Order.

Filed Date: 4/7/25.

Accession Number: 20250407-5169.

Comment Date: 5 p.m. ET 7/7/25.

Take notice that the Commission received the following electric rate filings:

Docket Numbers: ER22-69-004.

Applicants: Indeck Niles, LLC.

Description: Notice of Non-Material Change in Status of Indeck Niles, LLC.

Filed Date: 6/23/25.

Accession Number: 20250623-5381.

Comment Date: 5 p.m. ET 7/14/25.

Docket Numbers: ER22-867-002; ER21-1225-005.

Applicants: Long Ridge Energy Generation LLC, Long Ridge Retail Electric Supplier LLC.

Description: Long Ridge Retail Electric Supplier LLC et al. submit response to FERC's 03/07/2025 letter requesting additional information to process the Triennial Market Power Analysis for Northeast Region.

Filed Date: 4/7/25.

Accession Number: 20250407-5219.

Comment Date: 5 p.m. ET 7/15/25.

Docket Numbers: ER25-1544-001.

Applicants: PJM Interconnection, L.L.C.

Description: Compliance filing: Compliance of Commission-Approved Settlement Revisions.

Filed Date: 6/24/25.

Accession Number: 20250624-5420.

Comment Date: 5 p.m. ET 7/15/25.

Docket Numbers: ER25-2261-000.

Applicants: Southwest Power Pool, Inc.

Description: Motion for Leave to Answer and Answer of Southwest Power Pool, Inc. to the comments of DC Energy, LLC et al.

Filed Date: 6/24/25.

Accession Number: 20250624-5279.

Comment Date: 5 p.m. ET 7/15/25.

Docket Numbers: ER25-2589-000.

Applicants: Clean Energy Future—Trumbull.

Description: Initial Rate Filing: Application for Market-Based Rate Authorization, Request for Waivers to be effective 6/30/2025.

Filed Date: 6/23/25.

Accession Number: 20250623-5363.

Comment Date: 5 p.m. ET 7/14/25.

Docket Numbers: ER25-2590-000.

Applicants: Southwest Power Pool, Inc.

Description: § 205(d) Rate Filing: 2900R28 KMEA NITSA NOA to be effective 9/1/2025.

Filed Date: 6/24/25.

Accession Number: 20250624-5185.

Comment Date: 5 p.m. ET 7/15/25.

Docket Numbers: ER25-2591-000.

Applicants: Southwest Power Pool, Inc.

Description: § 205(d) Rate Filing: 1875R9 Kansas Electric Power Cooperative, Inc. NITSA and NOA to be effective 9/1/2025.

Filed Date: 6/24/25.

Accession Number: 20250624-5234.

Comment Date: 5 p.m. ET 7/15/25.

Docket Numbers: ER25-2592-000.

Applicants: Southwest Power Pool, Inc.

Description: § 205(d) Rate Filing: 3620R8 Kansas City Board of Public Utilities NITSA NOA to be effective 9/1/2025.

Filed Date: 6/24/25.

Accession Number: 20250624-5252.

Comment Date: 5 p.m. ET 7/15/25.

Docket Numbers: ER25-2593-000.

Applicants: Midcontinent Independent System Operator, Inc.

Description: § 205(d) Rate Filing: 2025-06-24_SA 4290 NIPSCO-Merrillville Solar GIA (J1386) to be effective 6/18/2025.

Filed Date: 6/24/25.

Accession Number: 20250624-5254.

Comment Date: 5 p.m. ET 7/15/25.

Docket Numbers: ER25-2594-000.

Applicants: Southwest Power Pool, Inc.

Description: § 205(d) Rate Filing: 1889R15 Evergy Kansas Central, Inc.—Mindenmines NITSA NOA to be effective 9/1/2025.

Filed Date: 6/24/25.

Accession Number: 20250624-5307.

Comment Date: 5 p.m. ET 7/15/25.

Docket Numbers: ER25-2595-000.

Applicants: BCD 2024 Fund 4 II Lessee, LLC.

Description: Tariff Amendment: BCD 2024 Fund 4 II Lessee, LLC Notice of Cancellation of MBR Tariff to be effective 6/25/2025.

Filed Date: 6/24/25.

Accession Number: 20250624-5322.

Comment Date: 5 p.m. ET 7/15/25.

Docket Numbers: ER25-2596-000.

Applicants: Southwest Power Pool, Inc.

Description: § 205(d) Rate Filing: 1891R15 Evergy Kansas Central, Inc.—Mulberry NITSA NOA to be effective 9/1/2025.

Filed Date: 6/24/25.

Accession Number: 20250624-5331.

Comment Date: 5 p.m. ET 7/15/25.

Docket Numbers: ER25-2597-000.

Applicants: Southwest Power Pool, Inc.

Description: § 205(d) Rate Filing: 1893R16 Evergy Kansas Central, Inc.—Savonburg NITSA NOA to be effective 9/1/2025.

Filed Date: 6/24/25.

Accession Number: 20250624-5343.

Comment Date: 5 p.m. ET 7/15/25.

Docket Numbers: ER25-2598-000.

Applicants: Southwest Power Pool, Inc.

Description: § 205(d) Rate Filing: Submit Revs to the FRT of OGE to Incorp. Changes Accepted in ER25-1847 to be effective 7/1/2024.

Filed Date: 6/24/25.

Accession Number: 20250624-5369.

Comment Date: 5 p.m. ET 7/15/25.

Docket Numbers: ER25-2599-000.

Applicants: Watson Cogeneration Company.

Description: § 205(d) Rate Filing: Watson Cogeneration Company LLC Notice of Succession to be effective 6/25/2025.

Filed Date: 6/24/25.

Accession Number: 20250624-5373.

Comment Date: 5 p.m. ET 7/15/25.

Docket Numbers: ER25-2600-000.

Applicants: Midcontinent Independent System Operator, Inc., Duke Energy Indiana, LLC.

Description: § 205(d) Rate Filing: Duke Energy Indiana, LLC submits tariff filing per 35.13(a)(2)(iii: 2025-06-24_DEI Proposed Company Specific Template RE Procurement Subsidiary to be effective 12/31/9998.

Filed Date: 6/24/25.

Accession Number: 20250624-5396.

Comment Date: 5 p.m. ET 7/15/25.

Docket Numbers: ER25-2601-000.

Applicants: Public Service Company of Colorado.

Description: § 205(d) Rate Filing: 2025-06-24 Surplus LGIA—Limon 1&2—752-0.0.0 to be effective 8/23/2025.

Filed Date: 6/24/25.

Accession Number: 20250624-5426.

Comment Date: 5 p.m. ET 7/15/25.

Docket Numbers: ER25-2602-000.

Applicants: Southwest Power Pool, Inc.

Description: § 205(d) Rate Filing: 1894R15 Evergy Kansas Central, Inc.—Vermillion NITSA NOA to be effective 9/1/2025.

Filed Date: 6/24/25.

Accession Number: 20250624-5435.

Comment Date: 5 p.m. ET 7/15/25.

Docket Numbers: ER25-2603-000.

Applicants: California Independent System Operator Corporation.

Description: Compliance filing: 2025-06-24 Compliance with Order No. 676-K (NAESB v. 004) & Request for Waiver to be effective 2/27/2026.

Filed Date: 6/24/25.

Accession Number: 20250624-5466.

Comment Date: 5 p.m. ET 7/15/25.

Docket Numbers: ER25-2604-000.

Applicants: Indiana Michigan Power Company.

Description: § 205(d) Rate Filing: AEP submits one Revised Facilities Agreement re: ILDSA, No. 1262 to be effective 9/1/2025.

Filed Date: 6/24/25.

Accession Number: 20250624-5478.

Comment Date: 5 p.m. ET 7/15/25.

Docket Numbers: ER25-2605-000.

Applicants: Midcontinent Independent System Operator, Inc.

Description: § 205(d) Rate Filing: 2025-06-24_SA 4501 Ameren Missouri-Guthrie Montgomery MPFCA to be effective 6/16/2025.

Filed Date: 6/24/25.

Accession Number: 20250624-5491.

Comment Date: 5 p.m. ET 7/15/25.

Docket Numbers: ER25-2606-000.

Applicants: Tri-State Generation and Transmission Association, Inc.

Description: § 205(d) Rate Filing: Amendment to Service Agreement No. 816, Certificate of Concurrence to be effective 5/31/2025.

Filed Date: 6/24/25.

Accession Number: 20250624-5511.

Comment Date: 5 p.m. ET 7/15/25.

Docket Numbers: ER25-2607-000.

Applicants: Evergy Kansas Central, Inc.

Description: § 205(d) Rate Filing: Wholesale Distribution Access Tariff Update Filing to be effective 6/25/2025.

Filed Date: 6/24/25.

Accession Number: 20250624-5549.

Comment Date: 5 p.m. ET 7/15/25.

Docket Numbers: ER25-2608-000.

Applicants: Evergy Metro, Inc.

Description: § 205(d) Rate Filing: Wholesale Distribution Access Tariff Update Filing to be effective 6/25/2025.

Filed Date: 6/24/25.

Accession Number: 20250624-5573.

Comment Date: 5 p.m. ET 7/15/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: June 24, 2025.
Carlos D. Clay,
Deputy Secretary.

[FR Doc. 2025-11947 Filed 6-26-25; 8:45 am]

BILLING CODE 6717-01-P